DEPARTMENT OF LABOR

Employment and Training Administration

[NAFTA 6359]

Agrium Conda Phosphate Operations Soda Springs, ID; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2273), an investigation was initiated on June 12, 2002, in response to a petition filed by the company on behalf of workers at Agrium Conda Phosphate Operations, Soda Springs, Idaho.

The petitioner has requested that the petition be withdrawn. Consequently, further investigation in this case would serve no purpose, and the investigation has been terminated.

Signed in Washington, DC this 10th day of September 2002.
Elliott S. Kushner,
Certifying Officer, Division of Trade Adjustment Assistance.

[FR Doc. 02-24512 Filed 9-26-02; 8:45 am]

BILLING CODE 4510-30-P